DEPARTMENT OF HEALTH AND HUMAN SERVICES

Administration for Community Living

Agency Information Collection Activities; Proposed Collection; Comment Request; Small Business Innovation Research Program—Phase II

AGENCY: National Institute on Disability, Independent Living and Rehabilitation, Administration for Community Living (ACL), HHS.

ACTION: Notice.

SUMMARY: The Administration for Community Living (ACL), National Institute on Disability, Independent Living, and Rehabilitation Research (NIDLRR) is announcing that the proposed collection of information listed below has been submitted to the Office of Management and Budget (OMB) for review and clearance under the Paperwork Reduction Act of 1995. This notice solicits comments on the information collection requirements relating to the Small Business Innovation Research Program (SBIR)—Phase II. Specifically, the information collection is the SBIR Application package, which provides information on requirements for the application including mandatory information provided via government- approved forms.

DATES: Submit comments on the collection of information by November 30, 2015.

ADDRESSES: Submit comments on the collection of information by fax 202.395.5806 or by email to OIRA_submission@omb.eop.gov, Attn: OMB Desk Officer for ACL.

FOR FURTHER INFORMATION CONTACT: Brian Bard 202-254-7345 or Brian.Bard@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency request or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. This information collection is the SBIR Application Package. To comply with this requirement, ACL/NIDILRR published a notice of the proposed collection of information set forth in this document, inviting comment on: (1) Whether the proposed collection of information is necessary for the proper performance of ACL/NIDILRR's functions, including whether the information will have practical utility; (2) the accuracy of ACL/NIDILRR's estimate of the burden of the proposed collection of information, including the validity of the methodology and assumptions used; (3) ways to enhance the quality, utility, and clarity of the information to be collected; and (4) ways to minimize the burden of the collection of information on respondents, including through the use of automated collection techniques when appropriate, and other forms of information technology. NIDILRR received one comment asking for more information on the method by which it calculated burden. The Application Package, including instructions and forms, has been in continuous use with minor modifications since it was first approved by OMB in FY2012. This request is for approval to extent the current form and instructions, with minor modifications to change the sponsoring agency from Department of Education to Department of Health and Human Services (per requirement of the Workforce Innovation Opportunity Act) for three years, covering the FY 2015-2017 reporting periods.

Dated: October 23, 2015.
Kathy Greenlee,
Administrator and Assistant Secretary for Aging.

[FR Doc. 2015-27512 Filed 10-28-15; 8:45 am]

BILLING CODE 4154-01-P